DEPARTMENT OF HOMELAND SECURITY

Coast Guard

33 CFR Part 100

[Docket No. USCG-2011-0614]

Regattas and Marine Parades; Great Lakes Annual Marine Events

AGENCY: Coast Guard, DHS.

ACTION: Notice of enforcement of regulation.

SUMMARY: The Coast Guard will enforce a local regulation for the APBA Gold Cup, Detroit, MI annual high speed boat race in the Captain of the Port Detroit zone from 7 a.m. on July 7, 2011 through 7 p.m. on July 10, 2011. This action is necessary and intended to ensure safety of life on the navigable waters immediately prior to, during, and immediately after regattas or marine parades. This rule will establish restrictions upon, and control movement of, vessels in specified areas immediately prior to, during, and immediately after regattas or marine parades. During the enforcement periods, no person or vessel may enter the regulated areas without permission of the Captain of the Port.

DATES: The regulations in 33 CFR 100.918 will be enforced on July 7, 2011 through July 10, 2011 from 7 a.m. to 7 p.m. daily.

FOR FURTHER INFORMATION CONTACT: If you have questions on this notice, call or e-mail LT Katie Stanko, Prevention Department, Sector Detroit, Coast Guard; telephone (313)568-9508, e-mail Katie.R.Stanko@uscg.mil.

SUPPLEMENTARY INFORMATION: The Coast Guard will enforce the following special local regulations at the following times:

§ 100.918 Detroit APBA Gold Cup, Detroit, MI

This special local regulation will be enforced daily from 7 a.m. to 7 p.m. on July 7, 8, 9 and 10, 2011.

Regulations: (1) In accordance with the general regulations in 33 CFR 100.901, entry into, transiting, or anchoring within this regulated areas is prohibited unless authorized by the Captain of the Port Detroit, or his designated on-scene representative.

(2) This regulated area is closed to all vessel traffic, except as may be permitted by the Captain of the Port Detroit or his designated on-scene representative.

(3) The “designated on-scene representative” of the Captain of the Port is any Coast Guard commissioned, warrant, or petty officer who has been designated by the Captain of the Port to act on his behalf. The designated on-scene representative of the Captain of the Port will be aboard either a Coast Guard or Coast Guard Auxiliary vessel. The Captain of the Port or his designated on scene representative may be contacted via VHF Channel 16.

(4) Vessel operators desiring to enter or operate within the regulated area shall contact the Captain of the Port Detroit or his designated on-scene representative to obtain permission.

(5) Vessel operators given permission to enter or operate in the regulated area must comply with all directions given to them by the Captain of the Port or his designated on-scene representative.

Dated: June 27, 2011.
J. E. Ogden,
Captain, U. S. Coast Guard, Captain of the Port Detroit.

[FR Doc. 2011-16924 Filed 7-5-11; 8:45 am]

BILLING CODE 9110-04-P